DEPARTMENT OF LABOR

Employment and Training Administration

[TA-W-74,919]

RG Steel Sparrows Point LLC, Formerly Known as Severstal Sparrows Point LLC, a Subsidiary of RG Steel LLC, Including On-Site Leased Workers From Echelon Service Company, Sun Associated Industries, INC., MPI Consultants LLC, Alliance Engineering, INC., Washington Group International, Javan & Walter, INC., Kinetic Technical Resources Co., Innovative Practical Approach, Inc., and CPSI, Sparrows Point, MD; Amended Certification Regarding Eligibility To Apply for Worker Adjustment Assistance

In accordance with Section 223 of the Trade Act of 1974, as amended (“Act”), 19 U.S.C. 2273, the Department of Labor issued a Certification of Eligibility to Apply for Worker Adjustment Assistance on February 9, 2011, applicable to workers of Severstal International, including on-site leased workers from Echelon Service Company, Sun Associated Industries, Inc., MPI Consultants LLC, Alliance Engineering, Inc., Washington Group International, Javan & Walter, Inc., Kinetic Technical Resources Co., Innovative Practical Approach, Inc., and CPSI, Sparrows Point, Maryland. The workers are engaged in activities related to the production of rolled steel.

The Department's notice of determination was published in the Federal Register on March 28, 2011 (76 FR 17154).

As a result of a review of new information, the Department reviewed the certification for workers of the subject firm.

New information shows that, as of March 31, 2011, the subject worker firm has been purchased by, and is under the operational control of, RG Steel Sparrows Point LLC, a subsidiary of RG Steel LLC.

Accordingly, the Department is amending this certification to properly reflect this matter.

The intent of the Department's certification is to include all workers of the subject firm who were adversely affected by increased company imports of flat rolled steel.

The amended notice applicable to TA-W-74,919 is hereby issued as follows:

All workers of RG Steel Sparrows Point LLC, formerly known as Severstal Sparrows Point LLC, a subsidiary of RG Steel LLC, including on-site leased workers from Echelon Service Company, Sun Associated Industries, Inc., MPI Consultants LLC, Alliance Engineering, Inc., Washington Group International, Javan & Walter, Inc., Kinetic Technical Resources Co., Innovative Practical Approach, Inc., and CPSI, Sparrows Point, Maryland who became totally or partially separated from employment on or after November 22, 2009 through February 9, 2013, and all workers in the group threatened with total or partial separation from employment on February 9, 2011 through February 9, 2013, are eligible to apply for adjustment assistance under Chapter 2 of Title II of the Trade Act of 1974, as amended.

Signed at Washington, DC, this 22nd day of June, 2012.
Del Min Amy Chen,
Certifying Officer, Office of Trade Adjustment Assistance.

[FR Doc. 2012-17210 Filed 7-13-12; 8:45 am]

BILLING CODE 4510-FN-P